DEPARTMENT OF DEFENSE

Department of the Army

Advisory Committee on Arlington National Cemetery; Notice of Federal Advisory Committee Meeting

AGENCY: Department of the Army, DoD.

ACTION: Notice of Federal Advisory Committee meeting.

SUMMARY: The Department of Defense is publishing this notice to announce that the following Federal Advisory Committee meeting of the Advisory Committee on Arlington National Cemetery, Honor Subcommittee and Remember and Explore Subcommittee will take place.

DATES: The Honor subcommittee will meet on Wednesday September 5, 2018 from 9:00 a.m. to 12:00 p.m. The Remember and Explore subcommittee will meet on Thursday September 6, 2018 from 8:30 a.m. to 10:30 a.m.

ADDRESSES: The Honor Subcommittee will meet in the Conference Room of the Spates Community Conference Center, Joint Base Myer—Henderson Hall, 214 McNair Road, Fort Myer, VA 22211. The Remember and Explore Subcommittee will meet in the Welcome Center Conference Room, Arlington National Cemetery, Arlington, VA 22211.

FOR FURTHER INFORMATION CONTACT: Mr. Timothy Keating, Alternate Designated Federal Officer for the Committee, 1-877-907-8585 (Voice), (703) 607-8551 (Facsimile), timothy.p.keating.civ@mail.mil (Email). Mailing address is Arlington National Cemetery, Arlington, VA 22211. Website: http://www.arlingtoncemetery.mil/About/Advisory-Committee-on-Arlington-National-Cemetery/Charter. The most up-to-date changes to the meeting agenda can be found on the website.

SUPPLEMENTARY INFORMATION: These subcommittee meetings are being held under the provisions of the Federal Advisory Committee Act (FACA) of 1972 (5 U.S.C., Appendix, as amended), the Government in the Sunshine Act of 1976 (5 U.S.C. 552b, as amended), and 41 CFR 102-3.140 and 102-3.150.

Purpose of the Meeting: The Advisory Committee on Arlington National Cemetery is an independent federal advisory committee chartered to provide the Secretary of the Army independent advice and recommendations on Arlington National Cemetery (ANC), including, but not limited to, cemetery administration, the erection of memorials at the cemetery, and master planning for the cemetery. The Secretary of the Army may act on the committee's advice and recommendations.

The primary purpose of the Honor subcommittee is to accomplish an independent assessment of methods to address the long-term future of the Army national cemeteries, including how best to extend the active burials and what ANC should focus on once all available space is used.

The primary purpose of the Remember & Explore Subcommittee is to recommend methods to maintain the Tomb of the Unknown Soldier Monument, including the cracks in the large marble sarcophagus, the adjacent marble slabs, and the potential replacement marble stone for the sarcophagus already gifted to the Army; accomplish an independent assessment of requests to place commemorative monuments; and identify means to capture and convey ANC's history, including Section 60 gravesite mementos, and improve the quality of visitors' experiences now and for generations to come.

Agenda: The Honor subcommittee will review the results of a national dialogue and public survey conducted pursuant to Public Law 114-158. The subcommittee will subsequently conduct a roundtable discussion with visiting guests and study courses of action to extend the life of ANC well in to the future which will be reported to the Full Advisory Committee for deliberation in developing recommendations to the Secretary of the Army.

The Remember and Explore subcommittee will receive an update regarding ongoing maintenance efforts for the Memorial Amphitheater and review current requests for placement of commemorative monuments within ANC.

Meeting Accessibility: Pursuant to 5 U.S.C. 552b and 41 CFR 102-3.140 through 102-3.165, and the availability of space, these meetings are open to the public. Seating is on a first-come basis. Spates Community Center Conference Room, Joint Base Myer—Henderson Hall is readily accessible to and usable by persons with disabilities. The ANC Welcome Center Conference room is readily accessible to and usable by persons with disabilities. For additional information about public access procedures, contact Mr. Timothy Keating, the Alternate Designated Federal Officer, at the email address or telephone number listed in the FOR FURTHER INFORMATION CONTACT section.

Written Statements: Pursuant to 41 CFR 102-3.105(j) and 102-3.140 and section 10(a)(3) of the Federal Advisory Committee Act, the public or interested organizations may submit written comments or statements to the subcommittee, in response to the stated agenda of the open meeting or in regard to the subcommittee's mission in general. Written comments or statements should be submitted to Mr. Timothy Keating, the subcommittee's Alternate Designated Federal Officer, via electronic mail, the preferred mode of submission, at the address listed in the FOR FURTHER INFORMATION CONTACT section. Each page of the comment or statement must include the author's name, title or affiliation, address, and daytime phone number. Written comments or statements being submitted in response to the agenda set forth in this notice must be received by the Designated Federal Officer at least seven business days prior to the meeting to be considered by the subcommittee. The Designated Federal Officer will review all timely submitted written comments or statements with the respective subcommittee Chairperson, and ensure the comments are provided to all members of the subcommittee before the meeting. Written comments or statements received after this date may not be provided to the subcommittee until its next meeting. Pursuant to 41 CFR 102-3.140d, the subcommittee is not obligated to allow the public to speak or otherwise address the subcommittee during the meeting. However, interested persons may submit a written statement or a request to speak for consideration by the subcommittee. After reviewing any written statements or requests submitted, the subcommittee Chairperson and the Designated Federal Officer may choose to invite certain submitters to present their comments verbally during the open portion of this meeting or at a future meeting. The Designated Federal Officer in consultation with the subcommittee Chairperson, may allot a specific amount of time for submitters to present their comments verbally.

Brenda S. Bowen,
Army Federal Register Liaison Officer.

[FR Doc. 2018-17159 Filed 8-9-18; 8:45 am]

BILLING CODE 5001-03-P